DEPARTMENT OF LABOR

Mine Safety and Health Administration

30 CFR Parts 57, 70, 72, and 75

[Docket No. MSHA-2014-0031]

RIN 1219-AB86

Exposure of Underground Miners to Diesel Exhaust

AGENCY: Mine Safety and Health Administration, Labor.

ACTION: Request for information; extension of comment period.

SUMMARY: In response to requests from the public, the Mine Safety and Health Administration (MSHA) is extending the comment period for the Agency's request for information on Exposure of Underground Miners to Diesel Exhaust. This extension will provide stakeholders an opportunity to review and comment on information presented at the Diesel Exhaust Health Effects Partnership meetings that are anticipated for 2019 and 2020.

DATES: The comment period for the request for information, published on June 8, 2016 (81 FR 36826), which was scheduled to close on March 26, 2019 (58 FR 12904) is extended. Comments must be received on or before midnight Eastern Daylight Time on September 25, 2020.

ADDRESSES: Submit comments and informational materials for the rulemaking record, identified by RIN 1219-AB86 or Docket No. MSHA-2014-0031, by one of the following methods:

• Federal E-Rulemaking Portal: http://www.regulations.gov. Follow the on-line instructions for submitting comments.

• Email: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th Floor East, Suite 4E401.

• Fax: 202-693-9441.

Instructions: All submissions must include “RIN 1219-AB86” or “Docket No. MSHA-2014-0031.” Do not include personal information that you do not want publicly disclosed; MSHA will post all comments without change to http://www.regulations.gov and http://arlweb.msha.gov/currentcomments.asp, including any personal information provided.

Docket: For access to the docket to read comments received, go to http://www.regulations.gov or http://arlweb.msha.gov/currentcomments.asp. To read background documents, go to http://www.regulations.gov. Review the docket in person at MSHA, Office of Standards, Regulations, and Variances, 201 12th Street South, Arlington, Virginia, between 9:00 a.m. and 5:00 p.m. Monday through Friday, except Federal Holidays. Sign in at the receptionist's desk in Suite 4E401.

Email Notification: To subscribe to receive an email notification when MSHA publishes rules in the Federal Register, go to http://www.msha.gov/subscriptions.

FOR FURTHER INFORMATION CONTACT: Sheila A. McConnell, Director, Office of Standards, Regulations, and Variances, MSHA, at mcconnell.sheila.a@dol.gov (email), 202-693-9440 (voice); or 202-693-9441 (facsimile). These are not toll-free numbers.

SUPPLEMENTARY INFORMATION: On June 8, 2016 (81 FR 36826), MSHA published a request for information (RFI) on Exposure of Underground Miners to Diesel Exhaust. The RFI sought input from the public that will help MSHA evaluate the Agency's existing standards and policy guidance on controlling miners' exposures to diesel exhaust and to evaluate the effectiveness of the protections now in place to preserve miners' health.

MSHA held four public meetings on the RFI in 2016 (81 FR 41486), and the comment period was scheduled to close on September 6, 2016; however, in response to requests from the public, MSHA extended the comment period until November 30, 2016 (81 FR 58424).

In response to requests from stakeholders during the comment period, MSHA and the National Institute for Occupational Safety and Health (NIOSH) convened a Diesel Exhaust Health Effects Partnership (Partnership) with the mining industry, diesel engine manufacturers, academia, and representatives of organized labor to gather information regarding the complex questions contained in the RFI. The Partnership provides an opportunity for all relevant stakeholders from the mining community to come together to understand the health effects from underground miners' exposure to diesel exhaust. The Partnership also provides stakeholders an opportunity to consider best practices and new technologies, including engineering controls that enhance control of diesel exhaust exposures to improve protections for miners.

The first meeting of the Partnership was held on December 8, 2016, in Washington, Pennsylvania; and the second meeting was held on September 19, 2017, in Triadelphia, West Virginia. During the comment period and at the first Partnership meeting, MSHA received requests from stakeholders to reopen the rulemaking record for comment on the RFI and allow the comment period to remain open during the Partnership proceedings. In response to those requests, MSHA reopened the record for comment and extended the comment period for one year, until January 9, 2018 (82 FR 2284).

On March 26, 2018, MSHA reopened the rulemaking record and extended the comment period for one year, until March 26, 2019 (83 FR 12904).

On January 23, 2019, the Partnership sponsored a Diesel Technology Workshop (Workshop) in Washington, DC. The Workshop focused on the types of advanced low-emissions diesel technologies—including new engines, equipment, after-treatment systems, and retrofits—that are available for use in underground mines. The Workshop included five panels of experts that presented information and data on current emissions/control technologies, engine controls, emission reduction/exposure reduction, current barriers to deployment of technologies, and strategies addressing miners' exposures to diesel exhaust.

Partnership proceedings—including additional meetings—are anticipated for 2019 and 2020 to address topics relevant to the RFI. Extending the comment period commensurate with these proceedings will enable stakeholders to add information and data related to these proceedings to the record. Accordingly, in response to requests from stakeholders to allow the comment period on the RFI to remain open during Partnership proceedings, and to allow all interested parties an additional opportunity to review and comment on information and data from the proceedings, MSHA is extending the comment period on the RFI to September 25, 2020.

David G. Zatezalo,
Assistant Secretary of Labor for Mine Safety and Health.

[FR Doc. 2019-05443 Filed 3-22-19; 8:45 am]

BILLING CODE 4520-43-P